FARM CREDIT ADMINISTRATION

Privacy Act of 1974; System of Records

AGENCY: Farm Credit Administration.

ACTION: Notice of a Modified System of Records.

SUMMARY: Pursuant to the provisions of the Privacy Act of 1974, notice is hereby given that the Farm Credit Administration (FCA or Agency) is amending an existing system of records, FCA-11—Litigation and Administrative Adjudication Files—FCA.

DATES: You may send written comments on or before September 25, 2020. FCA filed an amended System Report with Congress and the Office of Management and Budget on July 20, 2020. This notice will become effective without further publication on October 5, 2020 unless modified by a subsequent notice to incorporate comments received from the public.

ADDRESSES: We offer a variety of methods for you to submit your comments. For accuracy and efficiency, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to. . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to. . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: The FCA-11—Litigation and Administrative Adjudication Files—FCA system is used to track litigation matters and to draft legal opinions and litigation reports. The Agency is updating the notice to make administrative updates as well as non-substantive changes to conform to the SORN template requirements prescribed in the Office of Management and Budget (OMB) Circular No. A-108. This publication satisfies the requirement of the Privacy Act of 1974 that agencies publish a system of records notice in the Federal Register when there is a revision, change, or addition to the system of records. The substantive changes and modifications to the currently published version of FCA-11—Litigation and Administrative Adjudication Files—FCA include:

1. Identifying the records in the system as unclassified.

2. Revising the safeguards section to reflect updated cybersecurity guidance and practices.

3. Updating the purposes of the system.

4. Updating the categories of records in the system.

Additionally, non-substantive changes have been made to the notice to align with the latest guidance from OMB.

The amended system of records is: FCA-11—Litigation and Administrative Adjudication Files—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-11—Litigation and Administrative Adjudication Files—FCA.

Security Classification:

Unclassified.

System Location:

Office of General Counsel, Farm Credit Administration, 1501 Farm Credit Drive, McLean, VA 22102-5090.

System Manager:

General Counsel, Office of General Counsel, Farm Credit Administration, 1501 Farm Credit Drive, McLean, VA 22102-5090.

Authority for Maintenance of the System:

12 U.S.C. 2243, 2252; 44 U.S.C. 3101.

Purposes of the System:

We use information in this system of records to actively manage and engage in litigation and administrative matters, track litigation and administrative matters, and to draft legal opinions and litigation reports.

Categories of Individuals Covered by the System:

Parties involved in litigation or administrative adjudication with FCA or litigation in which FCA has an interest, including: (a) Administrative proceedings before the FCA (e.g., personnel actions, whistleblower cases), (b) Federal or state court cases in which FCA is a party, (c) litigation in which FCA is participating as an amicus curiae, (d) a claim and/or subsequent litigation under the Federal Tort Claims Act, (e)third-party litigation in which FCA is in some way involved, and(f) other cases involving issues of concern to FCA, including those brought by other law enforcement agencies, Federal financial regulatory agencies, and private parties.

Categories of Records in the System:

This system may contain: (1) Documents comprising or included in the case record, such as briefs, affidavits, reports of investigation, motions, pleadings, orders, and correspondence; and (2) other documents, memoranda, and correspondence related to the action.

Record Source Categories:

Person to whom the record applies, current and former FCA employees, witnesses, participants, attorneys, others working on behalf of FCA, U.S. Attorneys, U.S. District Courts, parties to the proceedings, or other Federal, State, or local agencies.

Routine Uses of Records maintained in the System, Including Categories of Users and Purposes of Such Uses:

See the “General Statement of Routine Uses”. Disclosure to consumer reporting agencies: None.

Policies and Practices for Storage of Records:

Records are maintained in file folders and electronically in one or more computerized databases.

Policies and Practices for Retrieval of Records:

Records are retrieved by name.

Policies and Procedures for Retention and Disposal of Records:

Records are retained in accordance with retention schedules approved by the National Archives and Records Administration and with the FCA Comprehensive Records Schedule.

Administrative, Technical, and Physical Safeguards:

FCA implements multiple layers of security to ensure access to records is limited to those with a need-to-know in support of their official duties. Records are physically safeguarded in a secured environment using locked file rooms, file cabinets, or locked offices and other physical safeguards. Computerized records are safeguarded through use of user roles, passwords, firewalls, encryption, and other information technology security measures. Only the personnel with a need-to-know in support of their duties have access to the records.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

None.

History:

Federal Register Vol. 64, No. 100/Tuesday, May 25, 1999 page 21875.

Vol. 70, No. 183/Thursday, September 22, 2005, page 55621.

Dated: August 20, 2020.
Dale Aultman,
Secretary, Farm Credit Administration Board.

[FR Doc. 2020-18706 Filed 8-25-20; 8:45 am]

BILLING CODE 6705-01-P